DEPARTMENT OF TRANSPORTATION

Federal Aviation Administration

Public Notice for Waiver of Aeronautical Land-Use Assurance

AGENCY: Federal Aviation Administration (FAA), DOT.

ACTION: Notice of intent of waiver with respect to land; W.K. Kellogg Airport, Battle Creek, Michigan.

SUMMARY: The FAA is considering a proposal to change 0.92 acres of airport land from aeronautical use to non-aeronautical use and to authorize the lease or sale of airport property located at W.K. Kellogg Airport, Battle Creek, Michigan. The aforementioned land is not needed for aeronautical use.

The proposed property is located across Helmer Road from the W.K. Kellogg airport. The property is currently a vacant, mowed area maintained for compatible land use around the airfield. The proposed non-aeronautical land use would be for lease or sale to enhance commercial opportunities in an area no longer needed for aeronautical purposes.

DATES: Comments must be received on or before February 3, 2017.

ADDRESSES: Documents are available for review by appointment at the FAA Detroit Airports District Office, Irene R. Porter, Program Manager, 11677 South Wayne Road, Suite 107, Romulus, Michigan, 48174. Telephone: (734) 229-2915/Fax: (734) 229-2950 and Mr. Lawrence Bowron, Transportation Director, City of Battle Creek—Aviation, Rail & Transit, 15551 South Airport Road, Battle Creek, Michigan. Telephone: (269) 966-3570.

Written comments on the Sponsor's request must be delivered or mailed to: Irene R. Porter, Program Manager, Federal Aviation Administration, Airports Detroit District Office, 11677 South Wayne Road, Suite 107, Romulus, Michigan 48174, Telephone Number: (734) 229-2915/FAX Number: (734) 229-2950.

FOR FURTHER INFORMATION CONTACT: Irene R. Porter, Program Manager, Federal Aviation Administration, Airports Detroit District Office, 11677 South Wayne Road, Suite 107, Romulus, Michigan 48174, Telephone Number: (734) 229-2915/FAX Number: (734) 229-2950.

SUPPLEMENTARY INFORMATION: In accordance with section 47107(h) of Title 49, United States Code, this notice is required to be published in the Federal Register 30 days before modifying the land-use assurance that requires the property to be used for an aeronautical purpose.

The property is currently a vacant, mowed lot maintained for compatible land use around the airfield. The proposed non-aeronautical land use would be for lease or sale to enhance commercial opportunities in an area no longer needed for aeronautical purposes. The property was originally owned by the U.S. Government that quit claimed the property to the City of Battle Creek, Michigan in 1947. In 1961, the National Emergency Use Provision was released from this property. In 1986 the FAA released a portion of the total parcel, but retained the 200′ x 200′ parcel to protect a navigational aid. The navigational aid has since been relocated and there is no longer an aeronautical use for the property. The airport will receive Fair Market Value for the land to be leased/sold.

The disposition of proceeds from the sale of the airport property will be in accordance with FAA's Policy and Procedures Concerning the Use of Airport Revenue, published in the Federal Register on February 16, 1999 (64 FR 7696).

This notice announces that the FAA is considering the release of the subject airport property at the W.K. Kellogg Airport, Battle Creek, Michigan, from federal land covenants, subject to a reservation for continuing right of flight as well as restrictions on the released property as required in FAA Order 5190.6B section 22.16. Approval does not constitute a commitment by the FAA to financially assist in the disposal of the subject airport property nor a determination of eligibility for grant-in-aid funding from the FAA.

Property Description

Commencing at the center Post of Section 10, Town 2 South, Range 8 West, City of Battle Creek, Calhoun County, Michigan, and running thence N. 00 degrees 20′ E., 1,051.43 feet along the North and South ¼ line of said Section 10; thence N. 89 degrees 36′ W., 1,661.21 feet along the North line of Sixth Avenue (66 feet wide) to the center line of an access road 10 feet in width; thence N. 00 degrees 24′ E., 147.00 feet along said center line of access road, to the true point of beginning; thence N. 89 degrees 36′ W., 80 feet; thence N. 00 degrees 24′ E., 200 feet; thence S. 89 degrees 36′ E., 200 feet; thence S. 00 degrees 24′ W., 200 feet, thence N. 89 degrees 36′ W., 120 feet; to the point of beginning. TOGETHER with easement for ingress and egress and for placing communication lines and appurtenances over the access road herein described.

Issued in Romulus, Michigan, on December 6, 2016.
Stephanie R. Swann,
Acting Manager, Detroit Airports District Office FAA, Great Lakes Region.

[FR Doc. 2016-31916 Filed 1-3-17; 8:45 am]

BILLING CODE 4910-13-P